DEPARTMENT OF COMMERCE

[I.D. 110404J]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Customer Surveys.

Form Number(s): None.

OMB Approval Number: 0648-0342.

Type of Request: Regular submission.

Burden Hours: 10,440.

Number of Respondents: 170,000.

Average Hours Per Response: One to 15 minutes depending on the survey conducted.

Needs and Uses: This is a request for a generic clearance of voluntary customer surveys to be conducted by NOAA program offices to determine whether their customers are satisfied with products and/or services being received and whether they have suggestions for improving those products and services. The request is for approval of generic lists of questions (quantitative and qualitative) which individual program offices would select from and adapt to meet their specific needs. Those specific surveys would then be sent to OMB for fast-track review to ensure that the proposal is consistent with the generic clearance and well-planned. NOAA is not planning a NOAA-wide survey.

Affected Public: Individuals or households; Business or other for-profit; Not-for-profit institutions; Farms; Federal Government; State, Local or Tribal Government.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 3, 2004.
Gwellnar Banks,
Management Analyst, Office of the Chief Information Officer.

[FR Doc. 04-25088 Filed 11-9-04; 8:45 am]

BILLING CODE 3510-12-S